NATIONAL SCIENCE FOUNDATION

Alan T. Waterman Award Committee; Notice of Meeting

In accordance with the Federal Advisory Committee Act (Pub. L. 92-463, as amended), the National Science Foundation announces the following meeting:

NAME: Alan T. Waterman Award Committee, #1172.

DATE AND TIME: January 11, 2010, 8:30 a.m.-1:30 p.m.

PLACE: National Science Foundation, 4201 Wilson Blvd., Arlington, Virginia.

TYPE OF MEETING: Closed.

CONTACT PERSON: Ms. Mayra Montrose, Program Manager, Room 1282, National Science Foundation, 4201 Wilson Blvd, Arlington, VA 22230. Telephone: 703-292-8040.

PURPOSE OF MEETING: To provide advice and recommendations in the selection of the Alan T. Waterman Award recipient.

AGENDA: To review and evaluate nominations as part of the selection process for awards.

REASON FOR CLOSING: The nominations being reviewed include information of a personal nature where disclosure would constitute unwarranted invasions of personal privacy. These matters are exempt under 5 U.S.C. 552b(c)(6) of the Government in the Sunshine Act.

Dated: December 8, 2009.
Susanne Bolton,
Committee Management Officer.

[FR Doc. E9-29498 Filed 12-10-09; 8:45 am]

BILLING CODE 7555-01-P